DEPARTMENT OF THE INTERIOR

Office of the Secretary

Invasive Species Advisory Committee

AGENCY: Office of the Secretary, Interior.

ACTION: Notice of Public Meetings of the Invasive Species Advisory Committee.

SUMMARY: Pursuant to the provisions of the Federal Advisory Committee Act, notice is hereby given of meetings of the Invasive Species Advisory Committee (ISAC). Comprised of 30 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on May 22-24, 2012 in Portland, Oregon, and will focus primarily on invasive species in the Pacific Northwest. A “systems thinking” approach to this meeting in both ecological and management contexts, will center on topics that: (1) Pertain to invasive species issues at the community and ecosystem level; or that, (2) holistically address prevention, eradication, control and restoration activities within the region. A copy of the meeting agenda is available on the NISC Web site, www.invasivespecies.gov.

DATES: Meeting of the Invasive Species Advisory Committee: Tuesday, May 22, 2012 and Thursday, May 24, 2012; beginning at approximately 8 a.m., and ending at approximately 5 p.m. each day. Members will be participating in an off-site field tour on Wednesday, May 23, 2012. The field tour is closed to the public.

ADDRESSES: The Benson Hotel, 309 SW Broadway, Portland, Oregon 97205. The general session on May 22, 2012 and May 24, 2012 will be held in the Crystal Ballroom.

FOR FURTHER INFORMATION CONTACT: Kelsey Brantley, National Invasive Species Council Program Specialist and ISAC Coordinator, (202) 513-7243; Fax: (202) 371-1751.

Dated: April 16, 2012.
Lori C. Williams,
Executive Director, National Invasive Species Council.

[FR Doc. 2012-9546 Filed 4-19-12; 8:45 am]

BILLING CODE 4310-RK-P